DEPARTMENT OF LABOR

Office of Labor-Management Standards

Proposed Extension of Information Collection; Labor Organization and Auxiliary Reports

ACTION: Notice; request for comments.

AGENCY: Office of Labor-Management Standards, Labor.

SUMMARY: In compliance with the Paperwork Reduction Act of 1995 (PRA), the U.S. Department of Labor is soliciting public comments regarding the proposal to amend the currently approved information collection request under OMB Control Number 1245-0003, specifically its proposal to revise the filing thresholds for the Form LM-2, Form LM-3, and Form LM-4 Labor Organization Annual Reports required under Section 201 of the Labor-Management Reporting and Disclosure Act (LMRDA). Additionally, the Department is proposing to amend the definition of “minor child” on the Form LM-30 Labor Organization Officer and Employee Report.

DATES: Consideration will be given to all written comments received by October 24, 2025.

ADDRESSES: A copy of this ICR with applicable supporting documentation, including a description of the likely respondents, proposed frequency of response, and estimated total burden, may be obtained free by contacting Andrew Davis at (202) 693-0123 (this is not a toll-free number). For persons with a hearing or speech disability who need assistance to use the telephone system, please dial 711 to access telecommunications relay services.

Electronic submission: You may submit comments and attachments electronically at https://www.regulations.gov.

FOR FURTHER INFORMATION CONTACT: Andrew Davis, Director of the Office of Program Operations, Office of Labor-Management Standards, U.S. Department of Labor, 200 Constitution Avenue NW, Room N-5609, Washington, DC 20210, by telephone at (202) 693-0123 (this is not a toll-free number), 711 (TTY/TDD), or by email at olms-public@dol.gov.

SUPPLEMENTARY INFORMATION:

I. Background

The U.S. Department of Labor (Department) is amending this information collection in accordance with the two proposed deregulatory actions that were published on July 1, 2025: Filing Thresholds for Forms LM-2, LM-3, and LM-4 Labor Organization Annual Reports, RIN 1245-AA15, and Minor Child Definition for Form LM-30 Labor Organization Officer and Employee Report, RIN 1245-AA16.

The Labor-Management Reporting and Disclosure Act of 1959 (LMRDA), 29 U.S.C. 401 et seq., mandates certain reporting and disclosure requirements for labor organizations, their officers and employees, employers, labor relations consultants, and surety companies. Under the LMRDA, every labor organization must file with the Department's Office of Labor-Management Standards (OLMS) an annual financial report showing total annual receipts, disbursements, assets, and liabilities of the union. 29 U.S.C. 431. The Secretary of Labor has authority to prescribe the form of the financial disclosure reports required by the LMRDA. 29 U.S.C. 438. The Secretary has prescribed three forms for this purpose—Forms LM-2, LM-3, and LM-4—with the form required determined by total annual receipts. Under current regulations, labor organizations with $250,000 or more in annual receipts must file Form LM-2; those not in a trusteeship with less than $250,000 may choose to file Form LM-3; and those not in a trusteeship with less than $10,000 may choose to file Form LM-4. 29 CFR 403.4(a). Additionally, under certain circumstances, a local labor organization with no assets, liabilities, receipts, or disbursements, which is not in a trusteeship can have a “simplified annual report” filed on its behalf by a parent union in lieu of an annual report. Id.

The LMRDA also requires that every officer or employee of a labor organization who, or whose spouse or their “minor child,” directly or indirectly holds any interest or derives any income or benefit from an employer whose employees the labor organization represents, or from a business that deals with the labor organization or a business that deals in substantial part with a represented employer of the union, or has received certain payments from a labor relations consultant, is required to file an annual financial disclosure report with the Secretary of Labor. 29 U.S.C. 432. The Secretary of Labor has authority to prescribe the form of the financial disclosure reports required by the LMRDA. 29 U.S.C. 438.

The Department proposes to increase each filing threshold to higher values: labor organizations with $450,000 or more in annual receipts must file Form LM-2; those with less than $450,000 not in trusteeship may choose to file Form LM-3; and those with less than $25,000 not in trusteeship may choose to file Form LM-4. These increases are necessary to reflect economic changes and reduce unnecessary reporting and recordkeeping burdens on labor organizations whose total receipts, prior to adjusting for inflation, should not necessitate greater filing requirements. The Department proposes to revise accordingly each reference to the filing thresholds on the Forms LM-2, LM-3, and LM-4, as well as their instructions.

The Department proposes to revise the threshold on Form LM-2 to read: “MUST BE USED BY LABOR ORGANIZATIONS WITH $450,000 OR MORE IN TOTAL ANNUAL RECEIPTS AND LABOR ORGANIZATIONS IN TRUSTEESHIP,” and proposes to revise the thresholds in the Form LM-2 Instructions, Section II, What Form to File, to read: “Every labor organization subject to the LMRDA, CSRA, or FSA with total annual receipts of $450,000 or more must file the Form LM-2. Labor organizations with total annual receipts of less than $450,000 may file the simplified Form LM-3, if not in trusteeship . . . . Labor organizations with total annual receipts of less than $25,000 may file the abbreviated annual report Form LM-4, if not in trusteeship.”

The Department additionally proposes to revise the threshold on page 1 of Form LM-3 to read: “FOR USE ONLY BY LABOR ORGANIZATIONS WITH LESS THAN $450,000 IN TOTAL ANNUAL RECEIPTS,” and the threshold on page 4 to read: “If total receipts reported in Item 44 are $450,000 or more, your organization must file Form LM-2 instead of this form.” The thresholds in the corresponding Form LM-3 Instructions, Section II, What Form to File, would read: “Every labor organization subject to the LMRDA, CSRA, or FSA with total annual receipts of less than $450,000 may file the simplified annual report Form LM-3, if not in trusteeship . . . . Labor organizations with less than $25,000 in total annual receipts may file the abbreviated 2-page annual report Form LM-4, if not in trusteeship.” Further, the threshold listed in the Form LM-3 Instructions, Section XII, Labor Organizations that Have Ceased to Exist, would read: “The terminal financial report may be filed on Form LM-3 if your organization filed its previous annual report on Form LM-3 and your organization's total annual receipts, as defined in Section II of these instructions, were less than $450,000 for the part of the last fiscal year during which your organization existed.”

The Department additionally proposes to revise the threshold on page 1 of Form LM-4 to read: “FOR USE ONLY BY LABOR ORGANIZATIONS WITH LESS THAN $25,000 IN TOTAL ANNUAL RECEIPTS,” and the threshold in Item 16 on Form LM-4 to read: “If $25,000 or more, your organization must file Form LM-2 or LM-3 instead of this form.” The thresholds in the corresponding Form LM-4 Instructions, Section II, What Form to File, would read: “Labor organizations with total annual receipts of less than $25,000 may file the abbreviated 2-page annual report Form LM-4, if not in trusteeship. . . . Labor organizations with $25,000 or more in total annual receipts cannot use Form LM-4.” The threshold in the Form LM-4 Instructions, Item 16, would read: “Note: If the labor organization's annual receipts were $25,000 or more, the labor organization is not eligible to file Form LM-4[,]” and the threshold in the Form LM-4 Instructions, Section X, Labor Organizations that Ceased to Exist, would read: “The terminal financial report may be filed on Form LM-4 if the labor organization filed its previous annual report on Form LM-4 and the labor organization's total annual receipts, as defined in Section II of these instructions, were less than $25,000 for the part of the last fiscal year during which the labor organization existed.” It would also note, “If total annual receipts were $25,000 or more the labor organization must use Form LM-2 or LM-3[.]”

The Department estimates these revisions, alongside an update to the number of Form LM-2, LM-3, and LM-4 filers based on Fiscal Year 24 filing numbers,¹ will result in a decrease of 759 responses and a reporting and recordkeeping burden decrease of 402,421.8 hours for the Form LM-2, a decrease of 2,520 responses and 258,904.8 reporting and recordkeeping burden hours for the Form LM-3, and an increase of 1,343 responses and 12,328.74 reporting and recordkeeping hours for the Form LM-4. This results in a total decrease of 1,936 responses and 648,997.86 reporting and recordkeeping burden hours for this collection.

¹ See: https://www.dol.gov/agencies/olms/data.

The Department additionally proposes to revise the definition of “minor child” on the Form LM-30 Labor Organization Officer and Employee Report, which requires labor union officers and employees to report actual or potential conflicts of interest involving their own personal financial interests, as well as that of their spouse or “minor child,” and that of their labor organization. This change aligns with the age of majority now recognized in almost all United States jurisdictions, where individuals are generally considered legal adults at 18. By adopting this widely accepted standard, the Department seeks to remove potentially unnecessary filings, while preserving the integrity and purpose of the LMRDA's disclosure requirements. Since the Department has no basis to conclude that, at least in recent years, any Form LM-30 filer included interests or transactions for a minor child between the ages of 18 and 20, the Department does not anticipate such interests or transactions occurring going forward.

The Department proposes to revise the definition on page two of the Form LM-30 Instructions to read: “MINOR CHILD—means a son, daughter, stepson, or stepdaughter under 18 years of age.” Additionally, the Department proposes to make a technical correction on page 6 of the Form LM-30 Instructions in Item 7, NATURE AND AMOUNT OF INTEREST, TRANSACTION, BENEFIT, ARRANGEMENT, INCOME, OR LOAN, by deleting: “If you need additional space, see the “How to Provide Additional Information” section on page 3” . . . . “(for information on where to provide this explanation, see the “How to Provide Additional Information” section on page 3)” . . . . “(See the “How to Provide Additional Information” section on page 3.).” The instructions on page 6 no longer need this language, as page 3 does not contain any instructions on providing additional information, nor is such instruction needed to complete the form.

The Department estimates this revision to the Form LM-30 instructions will have no effect on the number of respondents or burden hours for this collection.

II. Desired Focus of Comments

The Department is soliciting comments concerning the proposed information collection related to Labor Organization and Auxiliary Reports. The Department is particularly interested in comments that:

• Evaluate whether the collection of information is necessary for the proper performance of the functions of the Agency, including whether the information has practical utility;

• Evaluate the accuracy of the Department's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov. Questions about the information collection requirements may be directed to the person listed in the FOR FURTHER INFORMATION section of this notice.

Comments submitted in response to this notice will be summarized in the ICR the Department will submit to the Office of Management and Budget for approval of the information collection request; they will also become a matter of public record and will be available at https://www.reginfo.gov. Commenters are encouraged not to submit sensitive information (e.g., confidential business information or personally identifiable information such as a social security number).

III. Current Actions

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three years. OMB authorization for an ICR cannot be for more than three years without renewal. DOL notes that information collection requirements submitted to the OMB for existing ICRs receive a month-to-month extension while they undergo review.

Agency: DOL-OLMS.

Type of Review: Revision of a currently approved collection.

OMB Control Number: 1245-0003.

Title of Collection: Labor Organization and Auxiliary Reports.

Forms: LMLM-10, LM-20, LM-21, LM-3, LM-1, LM-16, LM-4, LM-15, LM-15a, LM-20, LM-21, S-1, LM-30, LM-10, LM-2.

Affected Public: Private Sector.

Total Estimated Number of Respondents: 30,855.

Total Estimated Number of Responses: 33,131.

Frequency: Varies.

Total Estimated Annual Time Burden: 3,995,742 hours.

Total Estimated Annual Other Costs Burden: $0.

(Authority: 44 U.S.C. 3506(c)(2)(A))

Dated: August 20, 2025.
Andrew Davis,
Director of the Office of Program Operations, Office of Labor-Management Standards.

[FR Doc. 2025-16257 Filed 8-22-25; 8:45 am]

BILLING CODE 4510-86-P